DEPARTMENT OF COMMERCE

Foreign-Trade Zones Board

[Order No. 1536]

Expansion of Foreign-Trade Zone 197, Doña Ana County, New Mexico

Pursuant to its authority under the Foreign-Trade Zones Act of June 18, 1934, as amended (19 U.S.C. 81a-81u), the Foreign-Trade Zones Board (the Board) adopts the following Order:

WHEREAS, the Board of County Commissioners of Doña Ana County, New Mexico, grantee of Foreign-Trade Zone 197, submitted an application to the Board for authority to expand FTZ 197-Site 1 to include an additional parcel at the Santa Teresa Logistics Park and expand the zone to include a site at the Santa Teresa Bi-National Park (Site 3) in Santa Teresa, New Mexico, within the Santa Teresa Customs and Border Protection port of entry (FTZ Docket 19-2007; filed 5/25/07);

WHEREAS, notice inviting public comment was given in the Federal Register (72 FR 31050, 6/5/07) and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to expand FTZ 197 is approved, subject to the FTZ Act and the Board's regulations, including Section 400.28.

Signed at Washington, DC, this 27th day of November 2007.

David M. Spooner,
Assistant Secretary of Commerce for Import Administration,Alternate Chairman Foreign-Trade Zones Board.

Attest:

Andrew McGilvray,
Executive Secretary.

[FR Doc. E7-23900 Filed 12-7-07; 8:45 am]

BILLING CODE 3510-DS-S